DEPARTMENT OF ENERGY

Federal Energy Regulatory Commission

[Docket No. CP10-20-000]

Venice Gathering System, L.L.C.; Notice of Application for Abandonment

November 19, 2009.

Take notice that on November 13, 2009, Venice Gathering System, L.L.C. (VGS), 1000 Louisiana, Suite 4300, Houston, Texas 77002 filed in Docket No. CP10-20-000 an application under section 7(b) of the Natural Gas Act and Part 157 of the Commission's regulations. VGS seeks authorization to abandon in place 25 miles of 26-inch pipeline from offshore Louisiana South Timbalier Block 265 and West Delta Block 41 to an onshore interconnection with Venice Energy Services Company, L.L.C.'s natural gas processing plant near the town of Venice in Plaquemines Parish, Louisiana. In addition, a former production platform in West Delta Block 20 currently serving solely as a pipeline riser will also be abandoned. VGS states that the United States Minerals Management Service (MMS) approved a portion of the segment of an application to decommission and relinquish effective September 8, 2009, and is currently reviewing the remainder of the application. The total cost associated with the abandonment project is estimated at $4,800,000 with no salvage realized or equipment sold.

Copies of this filing is available for review at the Commission in the Public Reference Room or may be viewed on the Commission's Web site at http://www.ferc.gov using the “eLibrary” link. Enter the docket number excluding the last three digits in the docket number field to access the document. For assistance, contact FERC at FERCOnlineSupport@ferc.gov or call toll-free, (886) 208-3676 or TTY, (202) 502-8659.

Any questions regarding this application should be directed to Elizabeth B. Hawkins, 1000 Louisiana, Suite 4300, Houston, TX 77002; telephone (713) 584-1123.

There are two ways to become involved in the Commission's review of this project. First, any person wishing to obtain legal status by becoming a party to the proceedings for this project should, before the comment date of this notice, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents Docket No. CP09-439-000 filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest. Comments, protests and interventions may be filed electronically via the Internet in lieu of paper. See, 18 CFR 385.2001(a)(1)(iii) and the instructions on the Commission's Web site under the “e-Filing” link.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

The Commission strongly encourages electronic filings of comments, protests, and interventions via the Internet in lieu of paper. See 18 CFR 385.2001(a)(1)(iii) and the instructions on the Commission's Web site (http://www.ferc.gov) under the “e-Filing” link. Persons unable to file electronically should submit an original and 14 copies of the protest or intervention to the Federal Energy regulatory Commission, 888 First Street, NE., Washington, DC 20426.

Comment Date: 5 p.m. Eastern Time on December 10, 2009.

Kimberly D. Bose,
Secretary.

[FR Doc. E9-28340 Filed 11-25-09; 8:45 am]

BILLING CODE P